DEPARTMENT OF COMMERCE

Foreign-Trade Zones Board

[S-25-2018]

Approval of Subzone Status; SDI USA, LLC; Meriden, Connecticut

On February 8, 2018, the Executive Secretary of the Foreign-Trade Zones (FTZ) Board docketed an application submitted by the Bridgeport Port Authority, grantee of FTZ 76, requesting subzone status subject to the existing activation limit of FTZ 76, on behalf of SDI USA, LLC, in Meriden, Connecticut.

The application was processed in accordance with the FTZ Act and Regulations, including notice in the Federal Register inviting public comment (83 FR 6510, February 14, 2018). The FTZ staff examiner reviewed the application and determined that it meets the criteria for approval. Pursuant to the authority delegated to the FTZ Board Executive Secretary (15 CFR Sec. 400.36(f)), the application to establish Subzone 76C was approved on April 4, 2018, subject to the FTZ Act and the Board's regulations, including Section 400.13, and further subject to FTZ 76's 476-acre activation limit.

Dated: April 4, 2018.
Andrew McGilvray,
Executive Secretary.

[FR Doc. 2018-07318 Filed 4-9-18; 8:45 am]

BILLING CODE 3510-DS-P